DEPARTMENT OF ENERGY

Federal Energy Regulatory Commission

Combined Notice of Filings #1

Take notice that the Commission received the following electric rate filings:

Docket Numbers: ER12-1179-007.

Applicants: Southwest Power Pool, Inc.

Description: Revisions to Day-Ahead Virtual Energy Transaction Fee to be effective 3/1/2014.

Filed Date: 9/23/13.

Accession Number: 20130923-5140.

Comments Due: 5 p.m. e.t. 10/15/13.

Docket Numbers: ER13-1716-002.

Applicants: Minco Wind, LLC.

Description: Minco Wind, LLC Amendment to MBR Tariff to be effective 9/25/2013.

Filed Date: 9/24/13.

Accession Number: 20130924-5080.

Comments Due: 5 p.m. e.t. 10/15/13.

Docket Numbers: ER13-1717-002.

Applicants: Minco Wind II, LLC.

Description: Minco Wind II, LLC Amendment to MBR Tariff to be effective 9/25/2013.

Filed Date: 9/24/13.

Accession Number: 20130924-5081.

Comments Due: 5 p.m. e.t. 10/15/13.

Docket Numbers: ER13-1874-000.

Applicants: American Electric Power Service Corporation.

Description: Response to Commission Staff Data Request of American Electric Power Service Corporation.

Filed Date: 9/19/13.

Accession Number: 20130919-5157.

Comments Due: 5 p.m. e.t. 10/10/13.

Docket Numbers: ER13-2437-000.

Applicants: AC Landfill Energy, LLC.

Description: MBR tariff cancellation to be effective 9/25/2013.

Filed Date: 9/24/13.

Accession Number: 20130924-5090.

Comments Due: 5 p.m. e.t. 10/15/13.

Docket Numbers: ER13-2438-000.

Applicants: Southwest Power Pool, Inc.

Description: 2548R3 KMEA and Westar Energy Meter Agent Agreement to be effective 9/1/2013.

Filed Date: 9/24/13.

Accession Number: 20130924-5094.

Comments Due: 5 p.m. e.t. 10/15/13.

Docket Numbers: ER13-2439-000.

Applicants: Southwest Power Pool, Inc.

Description: 2198R11 Kansas Power Pool NITSA and NOA to be effective 9/1/2013.

Filed Date: 9/24/13.

Accession Number: 20130924-5121.

Comments Due: 5 p.m. e.t. 10/15/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 25, 2013.
Nathaniel J. Davis, Sr.,
Deputy Secretary.

[FR Doc. 2013-24377 Filed 10-4-13; 8:45 am]

BILLING CODE 6717-01-P